DEPARTMENT OF HEALTH AND HUMAN SERVICES

National Institutes of Health

Center for Scientific Review; Amended Notice of Meeting

Notice is hereby given of a change in the meeting of the Biobehavioral and Behavioral Processes Integrated Review Group, Child Psychopathology and Developmental Disabilities Study Section, June 22, 2020, 08:00 a.m. to June 23, 2020, 06:00 p.m., National Institutes of Health, Rockledge II, 6701 Rockledge Drive, Bethesda, MD 20892 which was published in the Federal Register on May 20, 2020, 85 FR 30721.

This notice is being amended to change the meeting time from 08:00 a.m. to 06:00 p.m. to 10:00 a.m. to 06:00 p.m. Meeting Date and Location remain the same. The meeting is closed to the public.

Dated: June 10, 2020.
Ronald J. Livingston, Jr.,
Program Analyst, Office of Federal Advisory Committee Policy.

[FR Doc. 2020-12848 Filed 6-12-20; 8:45 am]

BILLING CODE 4140-01-P